DEPARTMENT OF HOMELAND SECURITY

Coast Guard

[Docket No. USCG-2015-0016]

Cooperative Research and Development Agreement: Western Rivers e-AtoN Technology Demonstration

AGENCY: Coast Guard, DHS.

ACTION: Notice of intent; request for comments.

SUMMARY: The Coast Guard announces its intent to enter into a cooperative research and development agreement (CRADA) to prepare for a demonstration, the “Ohio River eNav Technology Demonstration” of electronic navigation (eNav) technology to be conducted by the Coast Guard, U.S. Army Corps of Engineers, and the National Oceanic Atmospheric Administration. The eNav demonstration will involve the transmission of navigation safety and environmental information via automatic identification system (AIS) technology to the electronic charting system (ECS) displays on bridges of commercial vessels that are operating in the test area. The purpose of the demonstration is to identify the extent to which mariners would benefit from the distribution of e-AtoN information; and the policy changes, the infrastructure, and level of effort needed by the Coast Guard and its partner agencies to operate and maintain this technology.

The geographic area to be covered by the Ohio River eNav Technology Demonstration includes the Ohio River from Markland Lock (north of Louisville, KY) to the mouth of the Ohio River, and reaches of the Mississippi River within 45 statute miles of its confluence with the Ohio River. The Coast Guard needs end user participants, who are commercial operators that regularly operate in the Ohio River eNav Technology Demonstration test area, to receive the information via AIS. While the Coast Guard is currently considering partnering with Rose Point Navigation Systems (Rose Point), and CNS, Inc. (CNS), it solicits public comment on the possible participation of other parties in the proposed CRADA, and the nature of that participation.

DATES: Comments must be submitted to the online docket via http://www.regulations.gov, or reach the Docket Management Facility, on or before 30 days after date of publication in the Federal Register.

Synopses of proposals regarding future CRADAs must reach the Coast Guard (see FOR FURTHER INFORMATION CONTACT) on or before March 23, 2015.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice or wish to submit proposals for future CRADAs, contact Arden C. Turner, Project Official, E&W Branch, U.S. Coast Guard Research and Development Center, 1 Chelsea Street, New London, CT 06320, telephone 860-271-2623, email Arden.C.Turner@uscg.mil . If you have questions on viewing or submitting material to the docket, call Cheryl Collins, Program Manager, Docket Operations, telephone 202-366-9826, toll free 1-800-647-5527.

SUPPLEMENTARY INFORMATION:

Public Participation and Request for Comments

We encourage you to submit comments and related material on this notice. All comments received will be posted, without change, to http://www.regulations.gov and will include any personal information you have provided.

Do not submit detailed proposals for future CRADAs to the Docket Management Facility. Instead, submit them directly to the Coast Guard (see FOR FURTHER INFORMATION CONTACT) .

Comments should be marked with docket number USCG-2015-0016 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with other types of agreements such as procurement contracts, grants, and cooperative agreements.

Under the proposed CRADA, the Coast Guard's Research and Development Center (R&DC) will collaborate with one or more non-Federal participants to ensure that commercial vessel pilots who operate in the Ohio River Technology Demonstration Test Area are equipped with an ECS capability that accept AIS inputs to navigate; and to ensure that parties who have indicated their willingness to participate in the Technology Demonstration can receive and display the eNav information distributed by the Coast Guard during the eNav Technology Demonstration.

We anticipate that the Coast Guard's contributions under the proposed CRADA will include the following:

(1) Provide the ECS manufacturers with summaries and formats of the information that will be distributed in the Ohio River eNav Technology Demonstration.

(2) Test the ECS equipment with the format upgrades in the RDC Test Laboratory prior to the Demonstration and provide feedback to manufacturers. Also, provide non-Federal participants with access to the RDC Test Laboratory data output stream to evaluate the data displays on their equipment.

(3) Deploy an eNav system that distributes navigation and safety information to marine users in the Technology Demonstration Test Area on the Ohio and Mississippi Rivers.

(4) Conduct the Ohio River eNav Technology Demonstration. During the Demonstration, record the information distributed through the AIS and the information received by participating mariners' AIS receivers. Collate and analyze the information collected by participating vessels to quantify system performance. Collect anecdotal information on mariners' responses to the technology and its benefits.

We anticipate that the non-Federal participants' contributions under the proposed CRADA will include the following:

(1) Configure their software to enable the receipt and display of eNav information on ECS devices located on vessel bridges of customers who are participating in the Ohio River eNav Technology Demonstration.

(2) Provide the Coast Guard with the latest version of its ECS software to support the RDC Test Laboratory evaluation.

(3) The RDC and its federal partners may finalize some AIS message types after the Ohio River Technology Demonstration has started. As their resources permit, the non-Federal participants will update their software and distribute them to their customers and the RDC after the Demonstration has started.

(4) At the conclusion of the Demonstration, the RDC and the non-Federal participants will jointly document the CRADA effort in a white paper format, to document the features developed by the ECS manufacturers, their installation on the test vessels, and the results of the Ohio River eNav Technology Demonstration.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) Existence of commercial customers who routinely operate in the Ohio River eNav Technology Demonstration study area, who are equipped with an ECS capability that accept AIS inputs to navigate, and who are willing to participate in the Demonstration.

(2) How well respondents address the following criteria:

(a) Technical capability to support the non-Federal party contributions described; and

(b) Resources available for supporting the non-Federal party contributions described.

Currently, the Coast Guard is considering CNS and Rose Point for participation in this CRADA. This consideration is based on the fact that the Coast Guard has identified CNS and Rose Point as customers in the Demonstration area that use ECS with AIS input capability. However, the Coast Guard does not wish to exclude other viable participants from this CRADA.

This is a technology transfer/development effort. Presently, the Coast Guard has no plan to procure an ECS capability. Since the goal of this CRADA is to identify and investigate the advantages, disadvantages, required technology enhancements, performance, costs, and other issues associated with using ECS capabilities, non-Federal CRADA participants will not be excluded from any future Coast Guard procurements based solely on their participation in this CRADA. Special consideration will be given to small business firms/consortia, and preference will be given to business units located in the U.S.

This notice is issued under the authority of 5 U.S.C. 552(a) and 15 U.S.C. 3710(a).

Dated: January 26, 2015.
Dennis C. Evans,
Captain, USCG, Commanding Officer, U.S. Coast Guard Research and Development Center.

[FR Doc. 2015-03328 Filed 2-18-15; 8:45 am]

BILLING CODE 9110-04-P